DEPARTMENT OF AGRICULTURE

Office of the Under Secretary, Research, Education, and Economics; Notice of the Advisory Committee on Biotechnology and 21st Century Agriculture Meeting

AGENCY: Agricultural Research Service.

ACTION: Notice of Meeting.

SUMMARY: In accordance with the Federal Advisory Committee Act, 5 U.S.C. App. 2, the United States Department of Agriculture announces a meeting of the Advisory Committee on Biotechnology and 21st Century Agriculture (AC21).

DATES: The meeting dates are December 17, 2008, 8 a.m. to 5 p.m., and December 18, 2008, 8 a.m. to 4 p.m.

ADDRESSES: Lincoln Room in USDA National Finance Center Client Services Office Facilities, South Building Room 1623, 1400 Independence Avenue, SW., Washington, DC 20250.

FOR FURTHER INFORMATION CONTACT: Michael Schechtman, Telephone (202) 720-3817.

SUPPLEMENTARY INFORMATION: The twenty-first meeting of the AC21 has been scheduled for December 17-18, 2008. The AC21 consists of members representing the biotechnology industry, farmers, commodity processors and shippers, livestock handlers, environmental and consumer groups, and academic researchers. In addition, representatives from the Departments of Commerce, Health and Human Services, and State, and the Environmental Protection Agency, the Office of the United States Trade Representative, and the National Association of State Departments of Agriculture serve as “ex officio” members. At this meeting, the committee will be briefed on U.S. government regulatory developments relevant to agricultural biotechnology and will complete substantive work on a paper addressing the following charge: “Genetically engineered (GE) food animals are being developed in the U.S. and abroad for food and non-food uses. What regulatory issues should the U.S. government consider with regard to the potential development and commercialization of these animals and the products produced from them? Since USDA's legal authorities extend beyond regulation to research, education and marketing, what issues pertaining to GE animals will USDA need to consider when exercising these authorities? How might the views of different stakeholders be obtained and considered?”

Background information regarding the work of the AC21 will be available on the USDA Web site at http://www.usda.gov/wps/portal/!ut/p/_s.7_0_A/7_0_1OB?navid=BIOTECH&parentnav=AGRICULTURE&navtype=RT.

Requests to make oral presentations at the meeting may be sent to Michael Schechtman, Designated Federal Official, Office of the Deputy Secretary, USDA, 202 B Jamie L. Whitten Federal Building, 12th Street and Jefferson Drive, SW., Washington, DC 20250, Telephone (202) 720-3817; Fax (202) 690-4265; E-mail Michael.schechtman@ars.usda.gov. On December 17, 2008, if time permits, reasonable provision will be made for oral presentations of no more than five minutes each in duration. Written requests to make oral presentations at the meeting must be received by the contact person identified herein at least three business days before the meeting. The meeting will be open to the public, but space is limited. If you would like to attend the meetings, you must register by contacting Ms. Dianne Fowler at (202) 720-4074, by fax at (202) 720-3191 or by E-mail at Dianne.fowler@ars.usda.gov at least five business days prior to the meeting. Please provide your name, title, business affiliation, address, and telephone and fax numbers when you register. If you require a sign language interpreter or other special accommodation due to disability, please indicate those needs at the time of registration.

Dated: November 13, 2008.
Jeremy Stump,
Deputy Chief of Staff.

[FR Doc. E8-27725 Filed 11-20-08; 8:45 am]

BILLING CODE 3410-03-P